DEPARTMENT OF JUSTICE

Foreign Claims Settlement Commission

Completion of Claims Adjudication Program

AGENCY: Foreign Claims Settlement Commission of the United States, DOJ.

ACTION: Notice.

SUMMARY: This notice announces the completion date of the claims adjudication program referred to the Foreign Claims Settlement Commission (“Commission”) by the Department of State by letter dated October 7, 2014 (the “Iraq II program”), involving claims of United States nationals against the Republic of Iraq that were settled under the “Claims Settlement Agreement Between the Government of the United States of America and the Government of the Republic of Iraq,” dated September 2, 2010. By prior notice, the Commission announced the commencement of the Iraq II program on October 23, 2014 (79 FR 63439).

DATES: The completion date of the Iraq II program is April 13, 2020.

FOR FURTHER INFORMATION CONTACT: Brian M. Simkin, Chief Counsel, Foreign Claims Settlement Commission of the United States, 441 G St NW, Room 6234, Washington, DC 20579, Tel. (202) 616-6975, FAX (202) 616-6993.

Notice of Completion of Claims Adjudication Program

Pursuant to the authority conferred upon the Secretary of State and the Commission under subsection 4(a)(1)(C) of Title I of the International Claims Settlement Act of 1949 (Pub. L. 455, 81st Cong., approved March 10, 1950, as amended by Public Law 105-277, approved October 21, 1998 (22 U.S.C. 1623(a)(1)(C))), the Foreign Claims Settlement Commission hereby gives notice that on April 13, 2020, the Commission will complete the claims adjudication programs referred to the Commission by the Department of State by letter dated October 7, 2014 (the “Iraq II program”), involving claims of United States nationals against the Republic of Iraq that were settled under the “Claims Settlement Agreement Between the Government of the United States of America and the Government of the Republic of Iraq,” dated September 2, 2010.

Brian M. Simkin,
Chief Counsel.

[FR Doc. 2020-06962 Filed 4-2-20; 8:45 am]

BILLING CODE 4410-BA-P